DEPARTMENT OF THE INTERIOR

National Park Service

[NPS-WASO-NAGPRA-NPS0036903; PPWOCRADN0-PCU00RP14.R50000]

Notice of Inventory Completion: Kansas Historical Society, Topeka, KS

AGENCY: National Park Service, Interior.

ACTION: Notice.

SUMMARY: In accordance with the Native American Graves Protection and Repatriation Act (NAGPRA), the Kansas Historical Society (KSHS) has completed an inventory of human remains and associated funerary objects and has determined that there is a cultural affiliation between the human remains and associated funerary objects and Indian Tribes or Native Hawaiian organizations in this notice. The human remains and associated funerary objects were removed from Atchison, Doniphan, and Leavenworth Counties, KS.

DATES: Repatriation of the human remains and associated funerary objects in this notice may occur on or after December 13, 2023.

ADDRESSES: Nikki Klarmann, State Archeologist, Kansas Historical Society, 6425 SW 6th Avenue, Topeka, KS 66615, telephone (785) 272-8681, Ext. 269, Email Nikki.klarmann@ks.gov.

SUPPLEMENTARY INFORMATION: This notice is published as part of the National Park Service's administrative responsibilities under NAGPRA. The determinations in this notice are the sole responsibility of KSHS. The National Park Service is not responsible for the determinations in this notice. Additional information on the determinations in this notice, including the results of consultation, can be found in the inventory or related records held by KSHS.

Description

Human remains representing, at minimum, one individual were removed from Atchison County, KS. These human remains (number 1992-24C) were transferred to KSHS by Father Felix Nolte of Benedictine College on September 25, 1992, under the State of Kansas Unmarked Burial Site Preservation Act (UBS). According to Father Nolte, in the 1930s or 1940s, these human remains had been excavated after they were exposed by roadwork and erosion in a cutbank on the south side of a road leading to the Missouri River that lay on the north end of Benedictine College. The one associated funerary object is a charred piece of wood.

Human remains representing, at minimum, two individuals were removed from Leavenworth County, KS. These human remains (number 1992-24D) were transferred to KSHS by Father Felix Nolte of Benedictine College on September 25, 1992, under the State of Kansas UBS Act. According to Father Nolte, the human remains were removed from the Mark Aaron farm in Kickapoo, KS, and were likely excavated circa 1929. Associated funerary objects and presence of possible copper staining on the human remains indicate they are likely from the historic period. The 163 associated funerary objects are 162 small white glass beads and one piece of metal, possibly from a pot.

Human remains representing, at minimum, one individual was removed from an unknown county in Kansas. These human remains (1992-24E) were transferred by Father Felix Nolte of Benedictine College to KSHS on September 25, 1992, under the Kansas UBS Act. No associated funerary objects are present.

Human remains representing, at minimum, three individuals were removed from Doniphan County, KS. These human remains (1992-24F) were transferred by Father Felix Nolte of Benedictine College to KSHS on September 25, 1992, under the Kansas UBS Act. At the time of transfer, these human remains were wrapped in a newspaper dated 1948. A handwritten note in the box indicates that, per Father Colman Ferrell Order of Saint Benedict (O.S.B.) in 1949, these human remains were removed from Ford Farm in Doniphan. That location is likely the Doniphan site (14DP2), a historic period habitation site of Kaw Nation, Oklahoma, relatives. The five associated funerary objects are five chert flakes.

Human remains representing, at minimum, one individual was removed from Doniphan County, KS. These human remains (2001-08) were exposed when an agricultural terrace was being built. They were collected by landowner John Rush and his friend Paul Roberts, and were conveyed to KSHS June 13, 2001, under the Kansas UBS Act. On this date, additional collections were made by Randall Thies of KSHS at the site, which was recorded as 14DP432, and is believed to be related to a nearby, historic period Native American farmstead, likely of Kaw Nation, Oklahoma relatives. The 483 associated funerary objects are four worked pieces of stone; four white glazed pottery sherds; two glass shards; five rusted metal fragments; two small, white beads; seven blue glass, tubular beads; one red, faceted bead; one faceted, blue bead; 427 small, tubular shell beads; one shell hair pipe; one shell gorget; three bells; eight bell fragments; two brass discs; one pendant; one shell and metal button; one brass bracelet fragment; one small, round metal ornament; one large, perforated 1849 penny; two lead balls; two pieces of cloth; four pieces of wood; and two pieces of leather.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, biological, geographical, and historical.

Determinations

Pursuant to NAGPRA and its implementing regulations, and after consultation with the appropriate Indian Tribes and Native Hawaiian organizations, the Kansas Historical Society has determined that:

• The human remains described in this notice represent the physical remains of eight individuals of Native American ancestry.

• The 652 objects described in this notice are reasonably believed to have been placed with or near individual human remains at the time of death or later as part of the death rite or ceremony.

• There is a relationship of shared group identity that can be reasonably traced between the human remains and associated funerary objects described in this notice and the Kaw Nation, Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after December 13, 2023. If competing requests for repatriation are received, the Kansas Historical Society must determine the most appropriate requestor prior to repatriation. Requests for joint repatriation of the human remains and associated funerary objects are considered a single request and not competing requests. The Kansas Historical Society is responsible for sending a copy of this notice to the Indian Tribe identified in this notice.

Authority: Native American Graves Protection and Repatriation Act, 25 U.S.C. 3003, and the implementing regulations, 43 CFR 10.9, § 10.10, and § 10.14.

Dated: November 1, 2023.
Melanie O'Brien,
Manager, National NAGPRA Program.

[FR Doc. 2023-24891 Filed 11-9-23; 8:45 am]

BILLING CODE 4312-52-P